ENVIRONMENTAL PROTECTION AGENCY

(ER-FRL-6645-7)

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 04, 2003 (68 FR 16511).

Draft EISs

ERP No. D-AFS-L65429-WA Rating EC2, Gotchen Risk Reduction and Restoration Project, Implementation, Mount Adams Ranger District, Gifford Pinchot National Forest, Skamania and Yakima Counties, WA.

Summary: EPA expressed environmental concerns regarding potential adverse impacts to water quality and designated critical habitat and endangered species from proposed silvicultural practices in Late-Successional Reserves.

ERP No. D-CGD-L59001-WA Rating LO, Seattle Monorail Project (SMP), Green Line 14-Mile Monorail Transit System Construction and Operation, Reviewing a Water Crossing at the Lake Washington Ship Canal Bridge and Duwamish Waterway Bridge Modification, USCG Bridge, Endangered Species Act Section 7 and U.S. Army COE Section 404 Permits Issuance, City of Seattle, WA.

Summary: EPA expressed no objections to the project as proposed. EPA also expressed support for the project purpose, which would provide an alternate transportation mode for the project area, and encouraged proponents to seek opportunities to maximize links with existing modes.

ERP No. D-FHW-E40798-NC Rating EC2, Greensboro-High Point Road (NC-1486-NC-4121) Improvements from U.S. 311 (I-74) to Hilltop Road (NC-1424), Cities of Greensboro and High Point, Town of Jamestown, Guilford County, NC.

Summary: EPA has environmental concerns with the proposed project regarding the long term protection of water supplies associated with a present intake and the planned downstream Randleman Reservoir. EPA recommends that additional mitigation be evaluated for the abatement of stormwater runoff impacts.

ERP No. D-FHW-L40219-AK Rating EC2, Gravina Access Project, Transportation Improvements between Revillagigedo Island and Gravina Island, Funding, Endangered Species Act 7, NPDES and U.S. Army COE Section 404 Permits Issuance, Ketchikan Gateway Borough, AK.

Summary: EPA has environmental concerns with the proposed project regarding the potential direct and indirect impacts to water quality, wetlands, marine habitat and subsistence resources associated with project construction and subsequent development on Gravina and Pennock Islands. EPA recommends that additional analyses of the No Action and ferry alternative be included in the EIS along with information and maps related to expected future development that reflect the comprehensive planning efforts of the Ketchikan Gateway Borough.

ERP No. D2-AFS-L61190-OR Rating EC2, Mt. Ashland Ski Area Expansion, Site Specific Project, Maintenance and Enhancements of Environmental Resources, Implementation, Special Use Permit, Ashland Ranger District, Rogue River National Forest and Scott River Ranger District, Klamath National Forest, Jackson County, OR.

Summary: EPA expressed environmental concerns that the expansion may increase sedimentation, degrade water quality, change surface flow, damage high value wetlands and riparian reserves in Ashland Creek, which drains into a municipal water supply reservoir. The Final EIS should include detail on mitigation and minimization measures, and whether such measures compensate for project impacts.

Dated: November 18, 2003.
Joseph C. Montgomery,
Director, NEPA Compliance, Office of Federal Activities.

[FR Doc. 03-29189 Filed 11-20-03; 8:45 am]

BILLING CODE 6560-50-P